DEPARTMENT OF TRANSPORTATION

Federal Aviation Administration

14 CFR Part 39

[Docket No. FAA-2011-1226; Directorate Identifier 2011-NM-006-AD]

RIN 2120-AA64

Airworthiness Directives; Fokker Services B.V. Airplanes

AGENCY: Federal Aviation Administration (FAA), DOT.

ACTION: Notice of proposed rulemaking (NPRM).

SUMMARY: We propose to adopt a new airworthiness directive (AD) for certain Fokker Services B.V. Model F.28 Mark 0070 and 0100 airplanes. This proposed AD results from mandatory continuing airworthiness information (MCAI) originated by an aviation authority of another country to identify and correct an unsafe condition on an aviation product. The MCAI describes the unsafe condition as:

A recent safety review revealed that the fuel crossfeed valves cannot be controlled when only emergency electrical power is available.

This condition, if not corrected, could (in combination with other factors) prevent an in-flight engine re-light following a double engine flame-out event, possibly resulting in loss of the aeroplane.

* * * * *

The proposed AD would require actions that are intended to address the unsafe condition described in the MCAI.

DATES: We must receive comments on this proposed AD by December 23, 2011.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Fokker Services B.V., Technical Services Dept., P.O. Box 231, 2150 AE Nieuw-Vennep, the Netherlands; telephone +31 (0)252-627-350; fax +31 (0)252-627-211; email technicalservices.fokkerservices@stork.com; Internet http://www.myfokkerfleet.com. You may review copies of the referenced service information at the FAA, Transport Airplane Directorate, 1601 Lind Avenue SW., Renton, Washington. For information on the availability of this material at the FAA, call (425) 227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Tom Rodriguez, Aerospace Engineer, International Branch, ANM-116, Transport Airplane Directorate, FAA, 1601 Lind Avenue SW., Renton, Washington 98057-3356; telephone (425) 227-1137; fax (425) 227-1149.

SUPPLEMENTARY INFORMATION:

Comments Invited

We invite you to send any written relevant data, views, or arguments about this proposed AD. Send your comments to an address listed under the ADDRESSES section. Include “Docket No. FAA-2011-1226; Directorate Identifier 2011-NM-006-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2010-0158R1, dated November 8, 2010 (referred to after this as “the MCAI”), to correct an unsafe condition for the specified products. The MCAI states:

A recent safety review revealed that the fuel crossfeed valves cannot be controlled when only emergency electrical power is available.

This condition, if not corrected, could (in combination with other factors) prevent an in-flight engine re-light following a double engine flame-out event, possibly resulting in loss of the aeroplane.

Another review revealed that an unwanted configuration of the fuel fire shut-off valve indication logic had been introduced during production on a limited number of F28 Mark 0100 aeroplanes.

Furthermore, most of the current fuel crossfeed indications are based on the crossfeed selection made by the flight crew and not on the actual positions of the crossfeed valve actuators. In combination with other factors, the current crossfeed indications may mislead flight crews, possibly resulting in single engine in-flight shutdowns and/or unnecessary precautionary landings.

For the reasons described above, this AD requires modifications of the crossfeed valve control and power supply, of the crossfeed indication logic and power supply and of the fuel fire shut-off valve indication logic.

* * * * *

Required actions also include modifying the overhead panel (introduce provisions for a modified crossfeed indication), and for certain airplanes modifying the transfer logic of the center wing fuel tank. You may obtain further information by examining the MCAI in the AD docket.

Relevant Service Information

Fokker Services B.V. has issued the following service bulletins:

• Fokker Profroma Service Bulletin SBF100-28-043, Revision 1, dated March 31, 2009, including Appendix II, Revision 2, dated July 22, 2010, including the following drawings:

• Fokker Drawing W41194, Sheet 009, Issue F, dated March 31, 2009;

• Fokker Drawing W41194, Sheet 016, Issue N, dated March 31, 2009;

• Fokker Drawing W41194, Sheet 018, Issue S, dated March 31, 2009; and

• Fokker Drawing W59221, Sheet 159, Issue ED, dated October 2, 2009.

• Fokker Service Bulletin SBF100-28-047, Revision 3, dated May 2, 2011, including Fokker Manual Change Notification—Operational Documentation MCNO-F100-060, dated June 10, 2011, and Manual Change Notification—Operational Document MCNO-F100-049, Revision 1, dated May 30, 2011, including the following drawings:

• Fokker Drawing D42770, Sheet 6, Issue U, dated May 2, 2011;

• Fokker Drawing D42780, Sheet 6, Issue T, dated May 2, 2011;

• Fokker Drawing W41074, Sheet 100, Issue GB, dated May 2, 2011;

• Fokker Drawing W41074, Sheet 101, Issue FW, dated May 2, 2011;

• Fokker Drawing W41194, Sheets 010 and 012, Issue J, dated May 2, 2011;

• Fokker Drawing W41194, Sheets 011, 013, and 015, Issue U, dated May 2, 2011;

• Fokker Drawing W41194, Sheets 014, 019, and 020, Issue S, dated May 2, 2011;

• Fokker Drawing W41194, Sheet 017, Issue Q, dated May 2, 2011;

• Fokker Drawing W41319, Sheets 063, 064, 065, 066, 069, 071, and 074, Issue DY, dated May 2, 2011;

• Fokker Drawing W41319, Sheets 067, 068, 070, 072, and 073, Issue DW, dated May 2, 2011;

• Fokker Drawing W46211, Sheet 71, Issue DL, dated April 21, 2009;

• Fokker Drawing W46211, Sheet 74, Issue DN, dated July 16, 2010;

• Fokker Drawing W46254, Sheets 30 through 36, Issue BL, dated March 30, 2009;

• Fokker Drawing W46254, Sheet 37, Issue BP, dated March 30, 2009; and

• Fokker Drawing W59221, Sheets 161 and 162, Issue FC, July 9, 2010.

• Fokker Service Bulletin SBF100-28-052, dated June 15, 2009, including Fokker Manual Change Notification—Operational Documentation MCNO-F100-052 and Manual Change Notification—Maintenance Documentation MCNM-F100-126, dated June 15, 2009, including the following drawings:

• Fokker Drawing D42126, Sheet 38, Issue AR, dated October 6, 1993;

• Fokker Drawing D42213, Sheet 2, Issue H, dated May 23, 1990;

• Fokker Drawing D42220, Sheet 60, Issue V, dated September 1, 1991;

• Fokker Drawing D42220, Sheet 71, Issue AQ, dated June 7, 1993;

• Fokker Drawing D42250, Sheet 23, Issue U, dated April 1993.

The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

Based on the service information, we estimate that this proposed AD would affect about 6 products of U.S. registry. We also estimate that it would take about 86 work-hours per product to comply with the basic requirements of this proposed AD. The average labor rate is $85 per work-hour. Required parts would cost about $4,180 per product. Where the service information lists required parts costs that are covered under warranty, we have assumed that there will be no charge for these costs. As we do not control warranty coverage for affected parties, some parties may incur costs higher than estimated here. Based on these figures, we estimate the cost of the proposed AD on U.S. operators to be $68,940, or $11,490 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Fokker Services B.V: Docket No. FAA-2011-1226; Directorate Identifier 2011-NM-006-AD.

Comments Due Date

(a) We must receive comments by December 23, 2011.

Affected ADs

(b) None.

Applicability

(c) This AD applies to Fokker Services B.V. Model F.28 Mark 0070 and 0100 airplanes; certificated in any category; serial numbers 11244 through 11585 inclusive.

Subject

(d) Air Transport Association (ATA) of America Code 28: Fuel.

Reason

(e) The mandatory continuing airworthiness information (MCAI) states:

A recent safety review revealed that the fuel crossfeed valves cannot be controlled when only emergency electrical power is available.

This condition, if not corrected, could (in combination with other factors) prevent an in-flight engine re-light following a double engine flame-out event, possibly resulting in loss of the aeroplane.

* * * * *

Compliance

(f) You are responsible for having the actions required by this AD performed within the compliance times specified, unless the actions have already been done.

Actions

(g) Within 24 months after the effective date of this AD, modify the crossfeed valve control and power supply, the crossfeed indication logic and power supply, and the fuel fire shut-off valve indication logic, in accordance with the Accomplishment Instructions of Fokker Service Bulletin SBF100-28-047, Revision 3, dated May 2, 2011, including Fokker Manual Change Notification—Operational Documentation MCNO-F100-060, dated June 10, 2011, and Manual Change Notification—Operational Document MCNO-F100-049, Revision 1, dated May 30, 2011, including the drawings specified in paragraphs (g)(1) through (g)(15) of this AD.

(1) Fokker Drawing D42770, Sheet 6, Issue U, dated May 2, 2011.

(2) Fokker Drawing D42780, Sheet 6, Issue T, dated May 2, 2011.

(3) Fokker Drawing W41074, Sheet 100, Issue GB, dated May 2, 2011.

(4) Fokker Drawing W41074, Sheet 101, Issue FW, dated May 2, 2011.

(5) Fokker Drawing W41194, Sheets 010 and 012, Issue J, dated May 2, 2011.

(6) Fokker Drawing W41194, Sheets 011, 013, and 015, Issue U, dated May 2, 2011.

(7) Fokker Drawing W41194, Sheets 014, 019, and 020, Issue S, dated May 2, 2011.

(8) Fokker Drawing W41194, Sheet 017, Issue Q, dated May 2, 2011.

(9) Fokker Drawing W41319, Sheets 063, 064, 065, 066, 069, 071, and 074, Issue DY, dated May 2, 2011.

(10) Fokker Drawing W41319, Sheets 067, 068, 070, 072, and 073, Issue DW, dated May 2, 2011.

(11) Fokker Drawing W46211, Sheet 71, Issue DL, dated April 21, 2009.

(12) Fokker Drawing W46211, Sheet 74, Issue DN, dated July 16, 2010.

(13) Fokker Drawing W46254, Sheets 30 through 36, Issue BL, dated March 30, 2009;

(14) Fokker Drawing W46254, Sheet 37, Issue BP, dated March 30, 2009.

(15) Fokker Drawing W59221, Sheets 161 and 162, Issue FC, July 9, 2010.

(h) Before or concurrent with the modification specified in paragraph (g) of this AD, do the applicable actions specified in paragraphs (h)(1) and (h)(2) of this AD:

(1) For all airplanes: Modify the overhead panel (introduce provisions for a modified crossfeed indication) in accordance with the Accomplishment Instructions of Fokker Profroma Service Bulletin SBF100-28-043, Revision 1, dated March 31, 2009, including Appendix II, Revision 2, dated July 22, 2010, including the drawings specified in paragraphs (h)(1)(i) through (h)(1)(iv) of this AD.

(i) Fokker Drawing W41194, Sheet 009, Issue F, dated March 31, 2009.

(ii) Fokker Drawing W41194, Sheet 016, Issue N, dated March 31, 2009.

(iii) Fokker Drawing W41194, Sheet 018, Issue S, dated March 31, 2009.

(iv) Fokker Drawing W59221, Sheet 159, Issue ED, dated October 2, 2009.

(2) For airplanes with serial numbers 11442 through 11585, equipped with the automatic fuel transfer system: Modify the transfer logic of the center wing fuel tank, in accordance with the Accomplishment Instructions of Fokker Service Bulletin SBF100-28-052, including Fokker Manual Change Notification—Operational Documentation MCNO-F100-052 and Manual Change Notification—Maintenance Documentation MCNM-F100-126, dated June 15, 2009, including the drawings specified in paragraphs (h)(2)(i) through (h)(2)(v) of this AD.

(i) Fokker Drawing D42126, Sheet 38, Issue AR, October 6, 1993.

(ii) Fokker Drawing D42213, Sheet 2, Issue H, dated May 23, 1990.

(iii) Fokker Drawing D42220, Sheet 60, Issue V, dated September 1, 1991.

(iv) Fokker Drawing D42220, Sheet 71, Issue AQ, dated June 7, 1993.

(v) Fokker Drawing D42250, Sheet 23, Issue U, dated April 1993.

Credit for Actions Accomplished in Accordance With Previous Service Information

(i) Modifications accomplished before the effective date of this AD according to the service bulletins specified in paragraphs (i)(1), (i)(2), (i)(3), and (i)(4) of this AD, as applicable, are considered acceptable for compliance with the corresponding action specified in this AD.

(1) Fokker Service Bulletin SBF100-28-043, including Appendix II, dated March 31, 2009.

(2) Fokker Service Bulletin SBF100-28-047, Revision 2, dated August 4, 2010.

(3) Fokker Service Bulletin SBF100-28-047, Revision 1, dated July 22, 2010.

(4) Fokker Service Bulletin SBF100-28-047, dated May 10, 2010.

FAA AD Differences

Note 1: This AD differs from the MCAI and/or service information as follows: No differences.

Other FAA AD Provisions

(j) The following provisions also apply to this AD:

(1) Alternative Methods of Compliance (AMOCs): The Manager, International Branch, ANM-116, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue SW., Renton, Washington 98057-3356; telephone (425) 227-1137; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

Related Information

(k) Refer to MCAI European Aviation Safety Agency Airworthiness Directive 2010-0158R1, dated November 8, 2010; and the service bulletins specified in paragraphs (g) and (h) of this AD; for related information.

Issued in Renton, Washington, on October 28, 2011.
Ali Bahrami,
Manager, Transport Airplane Directorate, Aircraft Certification Service.

[FR Doc. 2011-28836 Filed 11-7-11; 8:45 am]

BILLING CODE 4910-13-P